DEPARTMENT OF ENERGY

Federal Energy Regulatory Commission

[Project No. 2365-040]

Madison Paper Industries, Inc.; Notice of Temporary Variance Request and Soliciting Comments, Motions To Intervene, and Protests

August 6, 2007.

Take notice that the following hydroelectric application has been filed with the Commission and is available for public inspection:

a. Type of Application: Request for temporary modification of the project operation to lower the water level in the project Forebay.

b. Project No.: 2365-040.

c. Date Filed: August 1, 2007.

d. Applicant: Madison Paper Industries, Inc.

e. Name of Project: Anson Project.

f. Location: On the Kennebec River, in Somerset County, Maine. The project does not utilize federal or tribal lands.

g. Filed Pursuant to: 18 CFR 4.200.

h. Applicant Contact: David Lovely, Hydro Supervisor, Madison Paper Industries, P.O. Box 129, 3 Main Street, Madison, Maine 04950-0129, (207) 696-1225.

i. FERC Contact: Robert Bell, (202) 502-6062.

j. Deadline for filing comments, motions to intervene and protest: August 20, 2007.

Please include the project number (P-2365-040) on any comments or motions filed. All documents (original and seven copies) should be filed with: Kimberly D. Bose, Secretary, Federal Energy Regulatory Commission, 888 First Street, NE., Washington, DC 20426. Comments, protests, and interventions may be filed electronically via the Internet in lieu of paper, see 18 CFR 385.2001(a)(1)(iii) and the instructions on the Commission's web site under the “e-filing” link. The Commission strongly encourages electronic filings. Please include the project number (P-2365-040) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency. A copy of any motion to intervene must also be served upon each representative of the Applicant specified in the particular application.

k. Description of Request: The license request approval to temporarily modify the operation of the project by lowering the water level in the project forebay to allow repair of the western forebay wall.

This maintenance work will consist of refacing the existing wall through the placement of forms and pouring concrete. In order to expose the area to be repaired such that the majority of the work will occur above the waterline, MPI proposes to temporarily lower the water lever of the forebay and headpond by approximately 2.5 feet from normal pond level of 248.15, at the top of the inflatable flashboards. The licensee proposes to gradually lower the forebay from its normal full pool elevation and to maintain the reduced water level via operation of the powerhouse turbines and deflating the inflatable flashboards and waste gate. The required minimum downstream flow (1,540 cfs or inflow, whichever is less) in the Anson tailrace will be maintained during this drawdown period via the turbines and flashboards/waste gate as well. The licensee anticipates a need to maintain this lowered elevation for intermittent periods of time for up to two months beginning on or about August 6, 2007 while the work is being accomplished. If there is sufficient inflow to the project, the licensee proposed to raise the pond level to the normal operating elevation on weekends and other periods when the Contractor is not working. Once the repair work, along the wall progresses above the lower elevation the pond level will be returned to the normal operating level.

The licensee proposes to maintain minimum downstream flows while refilling the project forebay by gradually filling the pond through maintaining a higher inflow than outflow, until the pond level is returned to normal.

l. Locations of the Application: Copies of this filing are on file with the Commission and are available for public inspection and reproduction at the Commission's Public Reference Room, located at 888 First St., NE., Room 2A, Washington, DC 20426. This filing may be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov or for TTY (202) 502-8659. A copy is also available for inspection and reproduction at the address in item (h) above.

m. Individuals desiring to be included on the Commission's mailing list should so indicate by writing to the Secretary of the Commission.

n. Comments, Protests, or Motions to Intervene: (Anyone may submit comments, a protest or a motion to intervene in accordance with the requirements of Rules of Practice and Procedure, 18 CFR 385.210. 385.211, and 385.214. In determining the appropriate action to take, the Commission will consider all protests filed, but only those who file a motion to intervene in accordance with the Commission's Rules may become a party to the proceeding. Any protests or motions to intervene must be received on or before the specified deadline date for the particular application.

o. Any filings must bear in all capital letters the title “Comments”, “Protest”, or “Motion to Intervene”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the “e-filing” link.

Kimberly D. Bose,
Secretary.

[FR Doc. E7-15645 Filed 8-9-07; 8:45 am]

BILLING CODE 6717-01-P